DEPARTMENT OF DEFENSE

Department of the Air Force

Notice of Issuance of Record of Decision Regarding Initial F-22 Operational Wing of F-22 Raptors at Langley Air Force Base, VA

AGENCY: Department of the Air Force, DoD.

ACTION: Notice of record of decision.

SUMMARY: The Air Force issued a Record of Decision (ROD) on 15 Jan 2002. The ROD reflected the Air Force decision to base the Initial F-22 Operational Wing of F-22 Raptors at Langley Air Force Base, Virginia. The ROD was issued in accordance with the Council on Environmental Quality's National Environmental Policy Act (NEPA) Regulations (40 CFR 1505.2). The ROD is based on information, analysis, and public comment contained in the Final Environmental Impact Statement for the Initial F-22 Operational Wing Beddown (Volume 66, Federal Register, Number 218: November 9, 2001 (Page 56673-56674).

FOR FURTHER INFORMATION CONTACT: Brenda Cook (757) 764-5007.

Pamela D. Fitzgerald,
Air Force Federal Register Liaison Officer.

[FR Doc. 02-1977 Filed 1-25-02; 8:45 am]

BILLING CODE 5001-05-P